DEPARTMENT OF THE INTERIOR

National Park Service

Delaware Water Gap National Recreation Area Citizen Advisory Commission Meetings

AGENCY: National Park Service; Interior.

ACTION: Notice of public meetings.

SUMMARY: This notice announces a public meeting of the Delaware Water Gap National Recreation Area Citizen Advisory Commission. Notice of these meetings is required under the Federal Advisory Committee Act, as amended (5 U.S.C. App. 2).

Date: Thursday, August 24, 2006, 7 p.m.

Address: Lehman Township Municipal Building, Municipal Road, Bushkill, PA 18324.

The agenda will include reports from Citizen Advisory Commission members including committees such as National Resources, Inter-Governmental, Cultural Resources, By-Laws, Special Projects, and Public Visitation and Tourism. Superintendent John J. Donahue will give a report on various park issues, including cultural resources, natural resources, construction projects, and partnership ventures. The agenda is set up to invite the public to bring issues of interest before the Commission.

Date: Saturday, November 4, 2006, 9 a.m.

Address: Frankford Township Municipal Building, 151 State Highway 206, Augusta, NJ 07822.

The agenda will include reports from Citizen Advisory Commission members including committees such as Natural Resources, Inter-Governmental, Cultural Resources, By-Laws, Special Projects, and Public Visitation and Tourism. Superintendent John J. Donahue will give a report on various park issues, including cultural resources, natural resources, construction projects, and partnership ventures. The agenda is set up to invite the public to bring issues of interest before the Commission.

Date: Thursday, January 11, 2007, 7 p.m., Snow date: January 18, 2007.

Address: Monroe County Conservation District, 8050 Running Valley Road, Stroudsburg, PA 18360.

The agenda will include reports from Citizen Advisory Commission members including committees such as Natural Resources, Inter-Governmental, Cultural Resources, By-Laws, Special Projects, and Public Visitation and Tourism. Superintendent John J. Donahue will give a report on various park issues, including cultural resources, natural resources, construction projects, and partnership ventures. The agenda is set up to invite the public to bring issues of interest before the Commission.

FOR FURTHER INFORMATION CONTACT: Superintendent John J. Donahue at 570-588-2418.

SUPPLEMENTARY INFORMATION: The Delaware Water Gap National Recreation Area Citizen Advisory Commission was established by Public Law 100-573 to advise the Secretary of the Interior and the United States Congress on matters pertaining to the management and operation of the Delaware Water Gap National Recreation Area, as well as on other matters affecting the recreation area and its surrounding communities.

Dated: May 12, 2006.
John J. Donahue,
Superintendent.

[FR Doc. 06-5343 Filed 6-12-06; 8:45 am]

BILLING CODE 4312-JG-M